DEPARTMENT OF TRANSPORTATION

Federal Aviation Administration

14 CFR Part 61

[Docket No. FAA-2007-29015; Amdt. No. 61-125A]

RIN 2120-AJ10

Certification of Aircraft and Airmen for the Operation of Light-Sport Aircraft; Modifications to Rules for Sport Pilots and Flight Instructors With a Sport Pilot Rating; Correction

AGENCY: Federal Aviation Administration (FAA), DOT.

ACTION: Final rule; correction.

SUMMARY: The FAA is correcting a final rule published on February 1, 2010. In that rule, the FAA amended its regulations for sport pilots and flight instructors with a sport pilot rating to address airman certification and operational issues that have arisen since regulations for the certification of aircraft and airmen for the operation of light-sport aircraft were implemented in 2004. This document corrects errors in the codified text of that document.

DATES: The final rule and this correction will become effective April 2, 2010.

FOR FURTHER INFORMATION CONTACT: For technical questions concerning this rule, contact Larry L. Buchanan, Light-Sport Aviation Branch, AFS-610, Regulatory Support Division, Flight Standards Service, Federal Aviation Administration, 6500 South MacArthur Blvd., Oklahoma City, OK 73169; telephone (405) 954-6400; Mailing address: Light-Sport Aviation Branch, AFS-610, P.O. Box 25082, Oklahoma City, OK 73125.

For legal questions concerning this rule, contact Paul G. Greer, Regulations Division, AGC-200, Federal Aviation Administration, 800 Independence Ave., SW., Washington, DC 20591; telephone (202) 267-3073.

SUPPLEMENTARY INFORMATION:

Background

On February 1, 2010, the FAA published a final rule entitled, “Certification of Aircraft and Airmen for the Operation of Light-Sport Aircraft; Modifications to Rules for Sport Pilots and Flight Instructors With a Sport Pilot Rating” (75 FR 5204).

In that final rule, the FAA revised § 61.327. Paragraph (a) introductory text of § 61.327 referenced endorsement requirements for a sport pilot operating “a light-sport aircraft that has a VH less than or equal to 87 knots CAS.” Paragraph (b) introductory text of § 61.327 referenced endorsement requirements for persons operating “a light-sport aircraft that has a VH greater than 87 knots CAS.” In the revision to § 61.315(c)(14)(i) and (c)(14)(ii), however, references to those paragraphs of § 61.327 were incorrectly cited.

Additionally, the FAA revised § 61.327 to require a sport pilot who seeks to operate a light-sport aircraft that has a VH less than or equal to 87 knots CAS to receive and log training in an aircraft that has a VH less than or equal to 87 knots CAS. In the preamble to the final rule, the FAA noted that it “does not believe that receiving training in an airplane with a VH greater than 87 knots CAS will adequately prepare a sport pilot to operate a low-speed, high-drag airplane with a VH less than or equal to 87 knots CAS without additional training.” The agency did not intend to require specific endorsements for other categories and classes of aircraft, such as powered parachutes and weight-shift-control aircraft that typically have a VH that does not exceed 87 knots CAS. Accordingly the FAA is correcting § 61.327(a) and (c) to reflect the agency's intent and is making conforming corrections in §§ 61.315(c)(14), 61.415(f), and 61.423 (a)(2)(iii)(C).

Sections 61.319 and 61.323 were revised to eliminate the requirement that persons exercising sport pilot privileges have an aircraft make-and-model endorsement to operate an aircraft within a specific set of aircraft. The FAA therefore also should have included a conforming amendment to § 61.317 Is my sport pilot certificate issued with aircraft category and class ratings? to remove reference to the words “make and model.”

Lastly, §§ 61.315(c)(14)(ii) and 61.327(c) contained provisions that permit a sport pilot to operate an aircraft with a VH less than or equal to 87 knots CAS if that person has logged flight time as pilot in command of an aircraft with a VH less than or equal to 87 knots CAS prior to March 3, 2010. The FAA is correcting this date to read “April 2, 2010,” to correspond with the effective date of the final rule.

Corrections

In final rule FR Doc. 2010-2056, beginning on page 5204 in the Federal Register of February 1, 2010, make the following corrections:

1. On page 5222, in the first column, revise § 61.315(c)(14) to read as follows:

§ 61.315 What are the privileges and limits of my sport pilot certificate?

* * * * *

(c) * * *

(14) If the aircraft:

(i) Has a VH greater than 87 knots CAS, unless you have met the requirements of § 61.327(b).

(ii) Has a VH less than or equal to 87 knots CAS, unless you have met the requirements of § 61.327(a) or have logged flight time as pilot in command of an airplane with a VH less than or equal to 87 knots CAS before April 2, 2010.

* * * * *

2. On page 5222, in the first column, add amendment 15A to read as follows:

§ 61.317 [Amended]

15A. Amend § 61.317 by removing the words “logbook endorsement for the category, class, and make and model of aircraft” from the last sentence and adding in their place the words “logbook endorsement for the category and class of aircraft”.

§ 61.327 [Corrected]

3. On page 5222, in the first column, amend § 61.327 by:

a. Amending paragraph (a) introductory text by removing the words “light-sport aircraft that has” and adding in their place the words “light-sport aircraft that is an airplane with”.

b. Amending paragraph (a)(1) by removing the word “aircraft” and adding in its place the word “airplane”.

c. Amending paragraph (a)(2) by removing the words “light-sport aircraft” and adding in their place the words “light-sport aircraft that is an airplane”.

d. Amending paragraph (c) by removing the word “aircraft” and adding in its place the word “airplane” and by removing the date “March 3, 2010” and adding in its place the date “April 2, 2010”.

§ 61.415 [Corrected]

4. On page 5222, in the second column, in § 61.415(f), remove the words “light-sport aircraft” and add in their place the words “light-sport aircraft that is an airplane”.

§ 61.423 [Corrected]

5. On page 5222, in the third column, in § 61.423(a)(2)(iii)(C), remove the words “light-sport aircraft” and add in their place the words “light-sport aircraft that is an airplane”.

Issued in Washington, DC, on March 25, 2010.
Pamela Hamilton-Powell,
Director, Office of Rulemaking.

[FR Doc. 2010-7039 Filed 3-29-10; 8:45 am]

BILLING CODE 4910-13-P